DEPARTMENT OF HEALTH AND HUMAN SERVICES

Centers for Disease Control and Prevention

Advisory Committee on Immunization Practices: Meeting

In accordance with section 10(a)(2) of the Federal Advisory Committee Act (P.L. 92-463), the Centers for Disease Control and Prevention (CDC) announces the following committee meeting:

Name: Advisory Committee on Immunization Practices (ACIP) Teleconference.

Time and Date: 3:15 p.m.-5 p.m., September 28, 2000.

Place: Teleconference call will originate at the Centers for Disease Control and Prevention in Atlanta, Georgia. Please see “Supplementary Information” for details on accessing the teleconference.

Status: Open to the public, teleconference access limited only by availability of telephone ports.

Purpose: The Committee is charged with advising the Director, CDC, on the appropriate uses of immunizing agents. In addition, under 42 U.S.C. § 1396s, the Committee is mandated to establish and periodically review and, as appropriate, revise the list of vaccines for administration to vaccine-eligible children through the Vaccines for Children (VFC) program, along with schedules regarding the appropriate periodicity, dosage, and contraindications applicable to the vaccines.

Matters to be Discussed: The teleconference agenda will include a discussion of influenza vaccine recommendations for the 2000-2001 influenza season. Discussion will include priority groups for vaccination, implementation measures, and strategies for promoting vaccine delivery later in the influenza season.

Agenda items are subject to change as priorities dictate.

SUPPLEMENTARY INFORMATION: This conference call is scheduled for 3:15 p.m. Eastern Standard Time. To access the teleconference you must dial 1/888/381-5770 and enter conference code 53651. You will then be automatically connected to the call. It is necessary to meet on an expedited basis, to refine vaccine recommendations prior to the influenza season. Therefore, notice is published less than 15 days prior to the teleconference.

CONTACT PERSON FOR MORE INFORMATION: Gloria A. Kovach, Program Analyst, Epidemiology and Surveillance Division, National Immunization Program, CDC, 1600 Clifton Road, NE, m/s E61, Atlanta, Georgia 30333. Telephone 404/639-8096. The Director, Management Analysis and Services office has been delegated the authority to sign Federal Register notices pertaining to announcements of meetings and other committee management activities for both the Centers for Disease Control and Prevention and the Agency for Toxic Substances and Disease Registry.

Dated: September 20, 2000.
Carolyn J. Russell,
Director, Management Analysis and Services Office, Centers for Disease Control and Prevention.

[FR Doc. 00-24622 Filed 9-22-00; 8:45 am]

BILLING CODE 4163-18-P